DEPARTMENT OF TRANSPORTATION

Federal Aviation Administration

14 CFR Parts 21, 36, and 91

[Docket No. FAA-2000-7587 Amdt No. 21-81, 36-24 & 91-275]

RIN 2120-AH03

Noise Certification Standards for Subsonic Jet Airplanes and Subsonic Transport Category Large Airplanes

Correction

In the issue of Thursday, October 10, 2002, appearing on pages 63194-63196, in the correction of rule document 02-15835, there were multiple errors. The corrections appear as follows:

1. On page 63194, in the first column, under the heading, Correction, in the first line, “15385” should read, “15835”.

2. On the same page, in the second column, in correction 17., in the fourth line, “the reference for” should read, “reference for”.

Appendix A to Part 36 — [Corrected]

3. On page 63195, in the third column, in correction 74., in the second line, “A36.3.6.7 Analysis systems” should read, “A36.3.7 Analysis systems”.

4. On page 63196, in the third column, in correction 83., in the fifth line, “frequency” should read, “frequency range”.

5. On the same page, in the table, in correction 84., under the column titled, “Meaning”, in the first line, “percieved” should read, “perceived”.

6. On the same page, in the first column, in correction 85., in the fifth line, after “PNL(k)”, remove the remaining text of the correction paragraph.

[FR Doc. C2-15835 Filed 1-9-03; 8:45 am]

BILLING CODE 1505-01-D

DEPARTMENT OF TRANSPORTATION

Federal Aviation Administration

14 CFR Part 36

[Docket No. FAA-2000-7587 Amdt No. 21-81, 36-24 &91-275]

RIN 2120-AH03

Noise Certification Standards for Subsonic Jet Airplanes and Subsonic Transport Category Large Airplanes

Correction

In rule document 02-15835 beginning on page 45194 in the issue of Monday, July 8, 2002, make the following corrections:

1. On the same page, in the same column, in the same section, in paragraph (c)(1)(ix), in the third line, “Nose” should read, “Noise”.

2. On the same page, in the same column, in the same section, in the same paragaph, in the fourth and fifth lines, “Requirements for systems measure one—Third” should read, “Requirements for Systems to Measure One-Third”.

Appendix A to Part 36 — [Corrected]

3. On page 45215, in the second column, at paragraph A36.3.6.3, in the third line from the bottom, “Frequency” should read, “frequency”.

Appendix B to Part 36 — [Corrected]

4. On page 45235, in the second column, in section B36.3(a)(2), in the fifth and sixth lines, “[the effective date of this final rule]” should read, “August 7, 2002”.

5. On page 45236, in the first column, in section B36.7(b)(3), in the sixth line, “[the effective date of this final rule]” should read, “August 7, 2002”.

[FR Doc. C2-15835 Filed 1-9-03; 8:45 am]

BILLING CODE 1505-01-D